DEPARTMENT OF COMMERCE

International Trade Administration

[A-122-814]

Pure Magnesium from Canada; Preliminary Results of Full Sunset Review

AGENCY: Import Administration, International Trade Administration, Department of Commerce.

ACTION: Notice of Preliminary Results of Full Sunset Review: Pure Magnesium from Canada.

SUMMARY: On August 2, 1999, the Department of Commerce (“the Department”) initiated a sunset review of the antidumping duty order on pure magnesium from Canada (64 FR 41915) pursuant to section 751(c) of the Tariff Act of 1930, as amended (“the Act”). On the basis of a notice of intent to participate filed on behalf of domestic interested parties and adequate substantive comments filed on behalf of domestic and respondent interested parties, the Department determined to conduct a full review. As a result of this review, the Department preliminarily finds that revocation of the antidumping duty order would likely lead to continuation or recurrence of dumping at the levels indicated in the Preliminary Results of Review section of this notice.

EFFECTIVE DATE: February 29, 2000.

FOR FURTHER INFORMATION CONTACT: Darla D. Brown or Melissa G. Skinner, Office of Policy for Import Administration, International Trade Administration, U.S. Department of Commerce, 14th Street and Constitution Avenue, NW, Washington, DC 20230; telephone: (202) 482-3207 or (202) 482-1560, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On August 2, 1999, the Department initiated a sunset review of the antidumping order on magnesium from Canada (64 FR 41915), pursuant to section 751(c) of the Act. The Department received a notice of intent to participate on behalf of the Magnesium Corporation of America (“Magcorp”) on August 13, 1999, within the deadline specified in section 351.218(d)(1)(i) of the Sunset Regulations. Pursuant to 19 U.S.C. 1677(9)(C), Magcorp claimed interested party status as a domestic producer of pure magnesium. Moreover, Magcorp stated that it was a petitioner in the original antidumping investigation and has participated in all of the administrative reviews conducted by the Department. The Department received a complete substantive response from Magcorp on September 1, 1999, within the 30-day deadline specified in the Sunset Regulations under section 351.218(d)(3)(i).

The Department also received a complete substantive response on behalf of Norsk Hydro Canada Inc. (“NHCI”), on September 1, 1999, within the deadline specified in the Sunset Regulations under section 351.218(d)(3)(i). NHCI claimed interested party status under 19 U.S.C. 1677(9)(A) as a manufacturer and exporter of pure magnesium to the United States. In its substantive response, NHCI stated that it participated in the original investigation and all of the subsequent administrative reviews. The Department determined that NHCI's response constituted an adequate response to the notice of initiation. As a result, the Department determined, in accordance with section 351.218(e)(2) of the Sunset Regulations, to conduct a full (240 day) review.

On September 13, 1999, the Department received rebuttal comments from Magcorp and NHCI.¹

¹ On September 3, 1999, the Department received and granted a request from Magcorp for a five working-day extension of the deadline for filing rebuttal comments in this sunset review. This extension was granted for all participants eligible to file rebuttal comments in this review. The deadline for filing rebuttals to the substantive comments therefore became September 13, 1999.

In accordance with section 751(c)(5)(C)(v) of the Act, the Department may treat a sunset review as extraordinarily complicated if it is a review of a transition order (i.e., an order in effect on January 1, 1995). On November 30, 1999, the Department determined that the sunset review of the antidumping duty order on pure magnesium from Canada is extraordinarily complicated pursuant to section 751(c)(5)(C)(v) of the Act, and extended the time limit for completion of the preliminary results of this review until not later than February 18, 2000, in accordance with section 751(c)(5)(B) of the Act.²

² See Extension of Time Limit for Preliminary Results of Full Five-Year Reviews, 64 FR 66879 (November 30, 1999).

Scope of Review

The merchandise subject to this antidumping duty order is pure magnesium from Canada. Pure magnesium is currently classifiable under item number 8104.11.0000 of the Harmonized Tariff Schedule of the United States (“HTSUS”). Pure unwrought magnesium contains at least 99.8 percent magnesium by weight and is sold in various slab and ingot forms and sizes. Granular and secondary magnesium are excluded from the scope of this review. Although the HTSUS subheading is provided for convenience and customs purposes, the written description remains dispositive.

Analysis of Comments Received

All issues raised in the case and rebuttal briefs by parties to this sunset review are addressed in the “Issues and Decision Memorandum” (“Decision Memo”) from Jeffrey A. May, Director, Office of Policy, Import Administration, to Robert S. LaRussa, Assistant Secretary for Import Administration, dated February 18, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in B-099.

In addition, a complete version of the Decision Memo can be accessed directly on the Web at www.ita.doc.gov/import_admin/records/frn/, under the heading “Canada.” The paper copy and electronic version of the Decision Memorandum are identical in content.

Preliminary Results of Review

We preliminarily determine that revocation of the antidumping duty order on pure magnesium from Canada would be likely to lead to continuation or recurrence of dumping at the following weighted-average margins:

Manufacturer/exporter | Margin ­(percent)
Norsk Hydro Canada Inc | 21.00
Timminco Limited | Excluded
All others | 21.00

Any interested party may request a hearing within 30 days of publication of this notice in accordance with 19 CFR 351.310(c). Any hearing, if requested, will be held on April 19, 2000. Interested parties may submit case briefs no later than April 10, 2000, in accordance with 19 CFR 351.309(c)(1)(i). Rebuttal briefs, which must be limited to issues raised in the case briefs, may be filed not later than April 17, 2000. The Department will issue a notice of final results of this sunset review, which will include the results of its analysis of issues raised in any such comments, no later than June 27, 2000.

This five-year (“sunset”) review and notice are in accordance with sections 751(c), 752, and 777(i)(1) of the Act.

Dated: February 18, 2000.
Robert S. LaRussa,
Assistant Secretary for Import Administration.

[FR Doc. 00-4799 Filed 2-28-00; 8:45 am]

BILLING CODE 3510-DS-P